DEPARTMENT OF THE INTERIOR

National Park Service

[2253-665]

Notice of Inventory Completion: Colorado Historical Society (History Colorado), Denver, CO

AGENCY: National Park Service, Interior.

ACTION: Notice.

Notice is here given in accordance with the Native American Graves Protection and Repatriation Act (NAGPRA), 25 U.S.C. 3003, of the completion of an inventory of human remains in the possession and control of the Colorado Historical Society (History Colorado), Denver, CO. The human remains were removed from Howiri Ruin (LA 71), Taos County, NM.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Colorado Historical Society (History Colorado) professional staff in consultation with representatives of the Hopi Tribe of Arizona; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Santa Ana, New Mexico; Pueblo of Santa Clara, New Mexico; Pueblo of Taos, New Mexico; Pueblo of Tesuque, New Mexico; Pueblo of Zia, New Mexico; Ysleta Del Sur Pueblo of Texas; and Zuni Tribe of the Zuni Reservation, New Mexico. The Kew Pueblo, New Mexico (formerly the Pueblo of Santo Domingo); Pueblo of Sandia, New Mexico; and Pueblo of San Felipe, New Mexico, were contacted for consultation purposes, but did not attend the consultation meetings.

In 1958, human remains representing a minimum of one individual were removed from Howiri Ruin (LA 71), in Taos County, NM, by J.H. Gerault and Eugene Stigall. The remains were donated to the Huerfano County Museum in Colorado. In November 1989, the individual was transferred to the Colorado Historical Society. No known individual was identified. No associated funerary objects are present.

Howiri Ruin is a large 15th century multi-storied Pueblo village near Ojo Caliente, NM. In 1958, Howiri Ruin had multiple owners, including private citizens and the State of New Mexico. It is not known if the individual was removed from private or public land within Howiri Ruin. Colorado Historical Society has accepted NAGPRA responsibilities for this individual. Osteological analysis by Colorado State University confirmed that the remains are of a Native American infant. Oral tradition and archeological evidence indicate the site was occupied by ancestors of present-day Northern Tewa-speaking Pueblos.

Officials of the Colorado Historical Society have determined, pursuant to 25 U.S.C. 3001(9), that the human remains described above represent the physical remains of one individual of Native American ancestry. Officials of the Colorado Historical Society also have determined, pursuant to 25 U.S.C. 3001(2), that there is a relationship of shared group identity that can be reasonably traced between the Native American human remains and the Ohkay Owingeh, New Mexico; Pueblo of Nambe, New Mexico; Pueblo of Pojoaque, New Mexico; Pueblo of San Ildefonso, New Mexico; Pueblo of Santa Clara, New Mexico; and Pueblo of Tesuque, New Mexico.

Representatives of any other Indian Tribe that believes itself to be culturally affiliated with the human remains should contact Bridget Ambler, Curator of Material Culture, Colorado Historical Society (History Colorado), 1560 Broadway, Suite 400, Denver, CO 80202, telephone (303) 866-2303, before April 28, 2011. Repatriation of the human remains to the Ohkay Owingeh, New Mexico; Pueblo of Nambe, New Mexico; Pueblo of Pojoaque, New Mexico; Pueblo of San Ildefonso, New Mexico; Pueblo of Santa Clara, New Mexico; and Pueblo of Tesuque, New Mexico, may proceed after that date if no additional claimants come forward.

The Colorado Historical Society (History Colorado) is responsible for notifying the Hopi Tribe of Arizona; Kewa Pueblo, New Mexico; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico, Ysleta Del Sur Pueblo of Texas; and Zuni Tribe of the Zuni Reservation, New Mexico, that this notice has been published.

Dated: March 23, 2011.
Sherry Hutt,
Manager, National NAGPRA Program.

[FR Doc. 2011-7319 Filed 3-28-11; 8:45 am]

BILLING CODE 4312-50-P